DEPARTMENT OF ENERGY

Grand Junction Office; Notice of Floodplain/Wetlands Involvement for Ground Water Remediation Activities at Shiprock, New Mexico, Uranium Mill Tailings Remedial Action Site

AGENCY: Grand Junction Office, Department of Energy.

ACTION: Notice of Floodplain/Wetlands Involvement.

SUMMARY: The Department of Energy (DOE) hereby provides notice as required by 10 CFR part 1022, to conduct ground water remediation activities within the 100-year floodplain of the San Juan River at the Shiprock New Mexico Uranium Mill Tailings Remedial Action (UMTRA) Site, with possible impacts to wetlands. The site is located within the boundaries of the Navajo Indian Reservation. Activities are scheduled to commence in 2002, and consist of installation of extraction wells and pipeline to pump contaminated ground water from the alluvial aquifer to an evaporation pond on the terrace, in accordance with 40 CFR part 192, “Health and Environmental Protection Standards for Uranium and Thorium Mill Tailings”. A floodplain/wetlands assessment has been prepared as an appendix to the environmental assessment (EA) that analyzes the potential environmental effects of this action.

DATES: Written comments are due to the address below no later than April 25, 2001.

ADDRESSES: Written comments should be addressed to Don Metzler, U.S. Department of Energy, Grand Junction Office, 2597 B¾ Road, Grand Junction, Colorado, 81503; or transmitted by E-mail via Internet to dmetzler@doegjpo.com; or by facsimile to (970) 248-6040.

FOR FURTHER INFORMATION CONTACT: Donna Bergman-Tabbert, Manager, U.S. Department of Energy—Grand Junction Office, 2597 B ¾ Road, Grand Junction, Colorado 81503, Telephone 1-970-248-6001 or 1-800-399-5618, E-mail via Internet to dbergman-tabbert@doegjpo.com, Facsimile to 1-970-248-6023.

For Further Information on General DOE Floodplain/Wetlands Environmental Review Requirements, Contact: Carol M. Borgstrom, Director, Office of NEPA Policy and Assistance (EH-42), U.S. Department of Energy, 1000 Independence Avenue, SW., Washington, DC 20585, (202) 586-4600 or (800) 472-2756.

SUPPLEMENTARY INFORMATION: Under E.O. 11988—Floodplain Management, E. O. 11990—Protection of Wetlands, and 10 CFR part 1022—Compliance with Floodplain/ Wetlands Environmental Review Requirements, notice is given that DOE is planning ground water remediation in the San Juan River 100-year floodplain north and east of the Shiprock UMTRA site.

Remediation activities include the installation of five extraction wells in the floodplain in the most contaminated part of the plume, pumping water via underground piping to a lined evaporation pond, and spray-evaporating the water. The evaporation pond will be located on the terrace above the floodplain. Water would be withdrawn from the floodplain alluvial aquifer at the rate of 80 gallons per minute. At this rate, modeling projects the floodplain contaminants to be reduced to acceptable levels within 14 years.

The locations of the wells, piping, and pond will be determined in a ground water compliance action plan, and would avoid sensitive areas including wetlands, cultural resources, and those containing sensitive plant and animal species.

A typical extraction well would be installed in two to three days and would disturb an area of approximately 30′ X 30′. Access to the floodplain would utilize existing roads as much as possible. Because the activities are located within the Navajo Reservation, all activities will be coordinated through the Navajo Nation and other state and federal agencies including the U.S. Army Corps of Engineers and the U.S. Fish and Wildlife Service. A floodplain/wetlands assessment has been prepared as an appendix to the Environmental Assessment of Ground Water Compliance at the Shiprock, New Mexico, Uranium Mill Tailings Site (March, 2001).

A floodplain statement of findings will be included in any finding of no significant impact that is issued following the completion of the EA or may be issued separately.

Issued in Albuquerque, New Mexico on March 15, 2001.
Constance L. Soden,
Director, Environment, Safety, and Health Division, U.S. Department of Energy, Albuquerque Operations Office.

[FR Doc. 01-7389 Filed 3-23-01; 8:45 am]

BILLING CODE 6450-01-P